Proclamation 9939 of September 30, 2019

National Energy Awareness Month, 2019

By the President of the United States of America

A Proclamation

Throughout the United States, we are seeing a revitalization of our country's energy sector, which is lighting up homes, powering factories, fueling vehicles, strengthening commerce, and driving economic prosperity. From large cities to rural communities, Americans are reaping the benefits of reduced energy costs and enjoying a renewed sense of energy security. During National Energy Awareness Month, we recognize the role the energy industry has played in our Nation's success, and we look forward to continued energy developments that will help our economy and the American people.

Since my inauguration, our country has experienced an energy revolution. American crude oil production grew by nearly 20 percent last year, and the United States is now the largest crude oil producer in the world. For the first time in six decades, we are also a net exporter of natural gas, and in 2018, we supplied liquefied natural gas to more than 36 countries on 5 different continents. Since 2016, annual coal exports have increased more than 90 percent, and by next year, we are set to become a net energy exporter for the first time since 1953. My Administration will continue to build on our country's energy dominance by pursuing policies that fully unleash America's vast energy resources and capabilities while promoting responsible stewardship of the environment.

For the first time in decades, the Department of Energy is operating test facilities to develop new and better emissions-free nuclear reactor technology. My Administration will continue to collaborate with industry and academia to focus research and development on the next generation of energy production. By leveraging the collective strength of America's brightest researchers and entrepreneurs, we will produce the energy technologies of tomorrow, including advanced small modular nuclear reactors, transformational coal technologies, more efficient semiconductors for solar cells, and improved battery and storage technology.

Maintaining and enhancing a modern and secure network of electric power lines, oil and natural gas pipelines, and energy storage facilities is essential to keeping energy accessible, affordable, and reliable for American businesses and American consumers. To accomplish this, we must continue to promote growth across all sectors of our country's energy industry by approving new pipelines, strengthening grid security and resilience, removing restrictions on sensible oil and gas exploration and development, supporting clean coal technologies, and using innovative approaches through the application of artificial intelligence. This coordination and research will provide energy security, both at home and abroad, and ensure environmental stewardship of our Nation's land, water, and air.

This month, we highlight our Nation's abundant energy resources and pay tribute to America's energy workforce, which has ushered in a new era of American energy dominance. At the forefront of the American energy revolution are men and women whose tenacity and resolve are undeniable and unbreakable and whose commitment to innovation has transformed the global energy landscape. These groups include the North America's Building Trades Unions, the International Union of Operating Engineers, and the International Brotherhood of Boilermakers, whose members work tirelessly to build, operate, and maintain facilities, infrastructure, and equipment that allow the American people to reap the benefits of our abundant energy resources. This is a consequential time for the American energy sector, and we will continue to help lay the foundation for our Nation's next generation of energy technologies and ensure a more secure and prosperous future for all Americans.

NOW, THEREFORE, I, DONALD J. TRUMP, President of the United States of America, by virtue of the authority vested in me by the Constitution and the laws of the United States, do hereby proclaim October 2019 as National Energy Awareness Month.

IN WITNESS WHEREOF, I have hereunto set my hand this thirtieth day of September, in the year of our Lord two thousand nineteen, and of the Independence of the United States of America the two hundred and forty-fourth.

[FR Doc. 2019-21763

Filed 10-2-19; 11:15 am]

Billing code 3295-F0-P